DEPARTMENT OF HEALTH AND HUMAN SERVICES

Health Resources and Services Administration

Agency Information Collection Activities: Proposed Collection Comment Request

In compliance with the requirement for opportunity for public comment on proposed data collection projects (section 3506(c)(2) of Title 44, United States Code, as amended by the Paperwork Reduction Act of 1995, Pub. L. 104-13), the Health Resources and Services Administration (HRSA) will publish periodic summaries of proposed projects being developed for submission to the Office of Management and Budget (OMB) under the Paperwork Reduction Act of 1995. To request more information on the proposed project or to obtain a copy of the data collection plans, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques of other forms of information technology.

Proposed Project: Standardized Data Collection for Health Center Grantees Requesting Changes in Sites or Services: New

The scope of project for health centers funded under section 330 of the Public Health Service Act defines the activities that the total approved grant-related project budget supports. Based on regulations outlined in Title 45, Parts 74 and 92 of the Code of Federal Regulations, health center grantees must obtain prior approval for changes in the approved scope of project to ensure that any changes maintain a close connection with the program as approved in the grant application. The following are changes in scope for which HRSA is developing a standard data collection format: an increase or decrease in the number of sites, certain relocations of sites previously approved in the health center's grant application, and adding or dropping a service previously approved in the grant application.

HRSA is planning to automate the current process for submitting and reviewing requests for changes in scope listed above. The automated system will be part of HRSA's Electronic Handbooks Initiative, which is designed to streamline the grants application and administration process, and enable applicants and grantee organizations to communicate with HRSA and conduct activities electronically.

The burden estimate for this project is as follows:

Number of respondents | Average number of responses per respondent | Total responses | Hours per response | Total burden hours
300 | 1 | 300 | 12 | 3,600

Send comments to Susan G. Queen, Ph.D., HRSA Reports Clearance Officer, Room 10-33 Parklawn Building, 5600 Fishers Lane, Rockville, Maryland 20857. Written comments should be received with 60 days of this notice.

Dated: September 14, 2005.
Tina M. Cheatham,
Director, Division of Policy Review and Coordination.

[FR Doc. 05-18757 Filed 9-20-05; 8:45 am]

BILLING CODE 4165-15-P